DEPARTMENT OF ENERGY

Federal Energy Regulatory Commission

[Docket No. EL16-91-000]

Southwest Power Pool, Inc.; Notice of Institution of Section 206 Proceeding and Refund Effective Date

On July 21, 2016, the Commission issued an order in Docket No. EL16-91-000, pursuant to section 206 of the Federal Power Act (FPA), 16 U.S.C. 824e (2012), instituting an investigation into the justness and reasonableness of certain aspects of Southwest Power Pool, Inc.'s Open Access Transmission Tariff. Southwest Power Pool, Inc., 156 FERC ¶ 61,059 (2016).

The refund effective date in Docket No. EL16-91-000, established pursuant to section 206(b) of the FPA, will be the date of publication of this notice in the Federal Register.

Dated: July 21, 2016.
Kimberly D. Bose,
Secretary.

[FR Doc. 2016-17851 Filed 7-27-16; 8:45 am]

BILLING CODE 6717-01-P